DEPARTMENT OF COMMERCE

International Trade Administration

[A-201-853, C-201-854]

Standard Steel Welded Wire Mesh From Mexico: Preliminary Affirmative Determination of Circumvention of the Antidumping Duty and Countervailing Duty Orders; Correction

AGENCY: Enforcement and Compliance, International Trade Administration, Department of Commerce.

ACTION: Notice; correction.

SUMMARY: On September 16, 2025, the U.S. Department of Commerce (Commerce) published notice in the Federal Register of the preliminary results of the circumvention inquiry of the antidumping and countervailing duty orders on standard steel welded wire mesh from Mexico. This notice corrects the date on or after which entries should be subject to suspended liquidation for one company from April 22, 2024, which was incorrectly printed, to the correct date of April 2, 2024. This notice also corrects the importer of low-carbon steel wire to be Deacero USA, Inc, rather than Deacero S.A.P.I. de C.V.

FOR FURTHER INFORMATION CONTACT: Kayden Jenson, Office II, Enforcement and Compliance, International Trade Administration, U.S. Department of Commerce, 1401 Constitution Avenue NW, Washington, DC 20230; telephone: (202) 482-0967.

SUPPLEMENTARY INFORMATION:

Background

On September 16, 2025, Commerce published in the Federal Register the preliminary results of the circumvention inquiry of the antidumping and countervailing duty orders on standard steel welded wire mesh from Mexico.¹ In that notice, we incorrectly stated that imports by Deacero S.A.P.I. de C.V. will be subject to suspension of liquidation, instead of imports by Deacero USA, Inc.

¹ See Standard Steel Welded Wire Mesh from Mexico: Preliminary Affirmative Determination of Circumvention of the Antidumping Duty and Countervailing Duty Orders, 90 FR 44635 (September 16, 2025).

Also in that notice, we incorrectly stated that we would instruct U.S. Customs and Border Protection to suspend liquidation and require cash deposit of estimated duties on unliquidated entries of low-carbon steel wire that are produced in Mexico and assembled or completed into welded wire mesh in the United States, that were entered, or withdrawn from warehouse, for consumption by Deacero USA, Inc. on or after “April 22, 2024” instead of “April 2, 2024.”

Corrections

In the Federal Register of September 16, 2025, in FR Doc 2025-17905, correct the following:

• On page 44635, in the second column, in the Summary section, correct “Deacero S.A.P.I. de C.V. (Deacero)” to “Deacero USA, Inc.;”

• On page 44636, in the first column, in the Suspension of Liquidation and Cash Deposit section, correct “April 22, 2024” to “April 2, 2024;”

• On page 44636, in the first column, in the Suspension of Liquidation and Cash Deposits section, change “Deacero or its affiliates” to “Deacero USA, Inc.;”

• On page 44636, in the second column, in the Certification Requirements section, change “for consumption by Deacero” to “for consumption by Deacero USA, Inc.;” and

• On page 44637, in the first column, change “for consumption by Deacero” to “for consumption by Deacero USA, Inc.”

Notification to Interested Parties

This notice is issued and published in accordance with section 781(a) of the Tariff Act of 1930, as amended, and 19 CFR 351.226(g)(1).

Dated: September 18, 2025.
Christopher Abbott,
Deputy Assistant Secretary for Policy and Negotiations, performing the non-exclusive functions and duties of the Assistant Secretary for Enforcement and Compliance.

[FR Doc. 2025-18445 Filed 9-23-25; 8:45 am]

BILLING CODE 3510-DS-P